SUSQUEHANNA RIVER BASIN COMMISSION

Notice of Actions Taken at March 18, 2010, Meeting

AGENCY: Susquehanna River Basin Commission.

ACTION: Notice of Commission actions.

SUMMARY: At its regular business meeting on March 18, 2010, in State College, Pennsylvania, the Commission held a public hearing as part of its regular business meeting. At the public hearing, the Commission: (1) Approved and tabled certain water resources projects; (2) rescinded approval for a water resources project; and (3) approved settlements involving three water resources projects. Details concerning these and other matters addressed at the public hearing and business meeting are contained in the Supplementary Information section of this notice.

DATES: March 18, 2010.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address.

SUPPLEMENTARY INFORMATION: In addition to the public hearing and its related action items identified below, the following items were also presented or acted on at the business meeting: (1) A presentation by Pennsylvania Department of Conservation and Natural Resources Deputy Secretary for Parks & Forestry James Grace on Marcellus Shale natural gas leasing in Pennsylvania state forests; (2) an update on the implementation of the SRBC Remote Water Quality Monitoring Network; (3) a report on hydrologic conditions in the Susquehanna Basin with an emphasis on National Flood Safety Week; (4) approval/ratification of one grant related to the Susquehanna Flood Forecast and Warning System, and five contracts related to ArcGIS, establishment of an SRBC satellite office in Sayre, PA, consulting services for instream flow studies, aquatic resource surveys, and flood mapping; (5) ratified the Executive Director's retention of outside counsel and other professional services regarding the relicensing proceedings for lower Susquehanna River hydroelectric projects; and (6) approved a revision of the FY-2011 Budget. The Commission also heard counsel's report on legal matters affecting the Commission and recognized retiring Chief Administrative Officer Duane A. Friends for his 25 years of valuable service. The Commission convened a public hearing and took the following actions:

Public Hearing—Compliance Actions

The Commission approved a settlement in lieu of civil penalties for the following projects:

1. Chesapeake Energy Corporation—Eastern Division. Pad ID: Ward (ABR-20090519), Burlington Township, and Sullivan 1 (ABR-20080715), Athens Township, Bradford County, Pa.—$20,000.

2. Novus Operating, LLC. Pad ID: Sylvester 1H and North Fork 1H, Brookfield Township, Tioga County, Pa.—$100,000.

3. Southwestern Energy Production Company. Pad ID: Ferguson, Wyalusing Township, Bradford County, Pa.—$50,000.

Public Hearing—Projects Approved

1. Project Sponsor and Facility: Carrizo Oil & Gas, Inc. (Mosquito Creek—Hoffman), Karthaus Township, Clearfield County, Pa. Surface water withdrawal of up to 0.720 mgd.

2. Project Sponsor and Facility: EQT Production Company (West Branch Susquehanna River—Kuntz), Greenwood Township, Clearfield County, Pa. Surface water withdrawal of up to 0.900 mgd.

3. Project Sponsor and Facility: EXCO-North Coast Energy, Inc. (West Branch Susquehanna River—Johnson), Clinton Township, Lycoming County, Pa. Surface water withdrawal of up to 0.999 mgd.

4. Project Sponsor and Facility: Fortuna Energy Inc. (Fall Brook—Bense), Troy Township, Bradford County, Pa. Surface water withdrawal of up to 1.000 mgd.

5. Project Sponsor and Facility: Fortuna Energy Inc. (Unnamed Tributary to North Branch Sugar Creek—Besley), Columbia Township, Bradford County, Pa. Surface water withdrawal of up to 2.000 mgd.

6. Project Sponsor and Facility: Fortuna Energy Inc. (South Branch Sugar Creek—Shedden), Troy Township, Bradford County, Pa. Surface water withdrawal of up to 0.900 mgd.

7. Project Sponsor and Facility: Fortuna Energy Inc. (Sugar Creek—Hoffman), West Burlington Township, Bradford County, Pa. Surface water withdrawal modification increase from 0.250 mgd up to 2.000 mgd (Docket No. 20090327).

8. Project Sponsor: Graymont (PA), Inc. Project Facility: Pleasant Gap Facility, Spring Township, Centre County, Pa. Groundwater withdrawal of 0.050 mgd (30-day average) from the Plant Make-up Well.

9. Project Sponsor and Facility: Harley-Davidson Motor Company Operations, Inc., Springettsbury Township, York County, Pa. Modification to project features of the withdrawal approval (Docket No. 19900715).

10. Project Sponsor and Facility: Harley-Davidson Motor Company Operations, Inc., Springettsbury Township, York County, Pa. Modification to add a groundwater withdrawal of 0.585 mgd (30-day average) from Well CW-20 to the remediation system, without any increase to total system withdrawal quantity (Docket No. 19980901).

11. Project Sponsor and Facility: Healthy Properties, Inc. (Sugar Creek—owner), North Towanda Township, Bradford County, Pa. Surface water withdrawal of up to 0.450 mgd.

12. Project Sponsor and Facility: Mountain Energy Services, Inc. (Tunkhannock Creek—Deer Park Lumber, Inc.), Tunkhannock Township, Wyoming County, Pa. Surface water withdrawal of up to 0.999 mgd.

13. Project Sponsor and Facility: Randy M. Wiernusz (Bowman Creek—owner), Eaton Township, Wyoming County, Pa. Surface water withdrawal of up to 0.249 mgd.

14. Project Sponsor and Facility: TerrAqua Resource Management (Tioga River—Losey), Lawrenceville Borough, Tioga County, Pa. Surface water withdrawal of up to 0.375 mgd and consumptive water use of up to 0.375 mgd.

15. Project Sponsor and Facility: XTO Energy, Inc. (Lick Run—Dincher), Shrewsbury Borough, Lycoming County, Pa. Surface water withdrawal of up to 0.249 mgd.

16. Project Sponsor and Facility: XTO Energy, Inc. (Little Muncy Creek—Temple), Moreland Township, Lycoming County, Pa. Surface water withdrawal of up to 0.249 mgd.

Public Hearing—Projects Tabled

1. Project Sponsor: Chester County Solid Waste Authority. Project Facility: Lanchester Landfill, Salisbury and Caernarvon Townships, Lancaster County, Pa. Application for groundwater withdrawal of 0.190 mgd (30-day average) from two wells and three collection sumps.

2. Project Sponsor: Chester County Solid Waste Authority. Project Facility: Lanchester Landfill, Salisbury and Caernarvon Townships, Lancaster County, Pa. Application for consumptive water use of up to 0.075 mgd.

3. Project Sponsor: Chester County Solid Waste Authority. Project Facility: Lanchester Landfill, Salisbury and Caernarvon Townships, Lancaster County, Pa. Application for an existing into-basin diversion of up to 0.050 mgd from the Delaware River Basin.

4. Project Sponsor and Facility: Sunnyside Ethanol, LLC (West Branch Susquehanna River—1—owner), Curwensville Borough, Clearfield County, Pa. Application for surface water withdrawal of up to 1.270 mgd.

5. Project Sponsor and Facility: Sunnyside Ethanol, LLC (West Branch Susquehanna River—2—owner), Curwensville Borough, Clearfield County, Pa. Application for surface water withdrawal of up to 0.710 mgd.

6. Project Sponsor and Facility: Sunnyside Ethanol, LLC, Curwensville Borough, Clearfield County, Pa. Application for consumptive water use of up to 1.980 mgd.

7. Project Sponsor and Facility: Walker Township Water Association, Walker Township, Centre County, Pa. Modification to increase the total groundwater system withdrawal limit (30-day average) from 0.523 mgd to 0.962 mgd (Docket No. 20070905).

Public Hearing—Rescission of Project Approval

1. Project Sponsor and Facility: Chesapeake Appalachia, LLC (Susquehanna River) (Docket No. 20080907), Oakland Township, Susquehanna County, Pa.

Authority: Pub. L. 91-575, 84 Stat. 1509 et seq., 18 CFR parts 806, 807, and 808.

Dated: April 20, 2010.
Thomas W. Beauduy,
Deputy Director.

[FR Doc. 2010-10395 Filed 5-3-10; 8:45 am]

BILLING CODE 7040-01-P